NUCLEAR REGULATORY COMMISSION

Request for a License To Export Radioactive Waste

Pursuant to 10 CFR 110.70 “Public notice of receipt of an application,” please take notice that the Nuclear Regulatory Commission has received the following request for an export license. Copies of the request are available electronically through ADAMS and can be accessed through the Public Electronic Reading Room (PERR) link http://www.nrc.gov/NRC/ADAMS/index.html at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington DC 20555; the Secretary, U.S. Nuclear Regulatory Commission, Washington, DC 20555; and the Executive Secretary, U.S. Department of State, Washington, DC 20520.

The information concerning this import license application follows.

NRC Export License Application
Name of applicant date of application, date received, Application No., Docket No. | Description of material: Material type | Description of material: Total quantity | End use | Country of origin
UniTech Services Group, Inc., August 17, 2006, September 7, 2006, XW011, 11005649 | Class A radioactive waste consisting of source, special nuclear and byproduct materials including paper, cardboard, plastic, metals, cloth, rubber, wood, etc | Up to 30,000 lbs. Or 5,000 cubic feet of contaminated materials | All contaminated materials imported from Canada under NRC License IW019 will be returned to Canadian customers for appropriate disposition | Canada.

Dated this 13 day of October 2006 at Rockville, Maryland.
For the Nuclear Regulatory Commission.
Margaret M. Doane,
Deputy Director, Office of International Programs.

[FR Doc. E6-17751 Filed 10-23-06; 8:45 am]

BILLING CODE 7590-01-P